ENVIRONMENTAL PROTECTION AGENCY

[FRL-8719-2]

Notice of Access to EPA Library Services

AGENCY: Environmental Protection Agency (EPA).

ACTION: Notice.

SUMMARY: EPA is enhancing access to library services for the public and Agency staff. EPA will open previously closed libraries in its National Library Network, with walk-in access for the public and EPA staff. Other library locations will expand staffing, operating hours, or services. This notice provides information regarding how members of the public can access the libraries and services beginning September 30, 2008.

ADDRESSES: The locations of the opening libraries are:

1. Chicago—EPA Region 5 Library, 16th Floor, Metcalf Building, 77 West Jackson Boulevard, Chicago, IL 60604; Phone 312-886-6822; Fax 312-886-1492; E-mail: library.r05@epa.gov; Hours 9 a.m.-3 p.m., Monday through Thursday; Contact Jessica McIntyre-Himes 312-353-8559.

2. Dallas—EPA Region 6 Library, Suite 1200, 1445 Ross Avenue, Dallas, TX 75202; Phone 214-665-6424; Fax 214-665-8574; E-mail: Region6.library@epa.gov; Hours 9 a.m.-4 p.m., Monday through Thursday; Contact Laurie Carter 214-665-6566.

3. Kansas City—EPA Region 7 Library, 901 North 5th Street, Kansas City, KS 66101; Phone 913-551-7979; Fax 913-551-8762; E-mail: R7-Library@epa.gov; Hours 9 a.m.-3 p.m., Monday through Thursday; Contact Alice Todd 913-551-7504.

4. Washington, DC—EPA Headquarters and Chemical Libraries, Room 3340, EPA West Building, 1301 Constitution Avenue, NW., Washington, DC 20004; Phone 202-566-0556; Fax 202-566-0574; E-mail: hqchemlibraries@epa.gov; Hours 8:30 a.m.-4:30 p.m., Monday through Friday; Contact Carlton Burns 202-566-0673.

FOR FURTHER INFORMATION CONTACT: Deborah Balsamo, Mailcode N127-05, Office of Environmental Information, Information Access Division, Environmental Protection Agency, 109 Alexander Drive, Research Triangle Park, NC 27711; Phone 919-541-9412; E-mail: Balsamo.Deborah@epa.gov.

SUPPLEMENTARY INFORMATION: EPA will re-establish on-site libraries for members of the public and EPA staff in Region 5, Chicago; Region 6, Dallas; Region 7, Kansas City; and at the EPA Headquarters and Chemical Libraries in Washington, DC on September 30, 2008.

The Region 5 Library in Chicago will open on September 30, 2008, and will be staffed by a professional librarian who is able to provide library services to EPA employees and the public. The physical library space will be equipped with computers and temporary furniture. The core reference collection and the first installment of Great Lakes literature collection will also be in place. It is anticipated that additional Great Lakes literature, permanent furniture and shelving will arrive in the next several weeks. Shortly thereafter, Region 5 will host an opening ceremony.

EPA will also enhance services at its existing Region 3 satellite library at Fort Meade, MD, through the addition of on-site professional library staff effective September 30, 2008.

These libraries are part of EPA's National Library Network, which consists of regional, laboratory, and specialized libraries. The libraries will provide physical space for walk-in traffic and will establish and maintain an on-site collection of materials developed and tailored to meet local/regional needs. All libraries will be staffed by a professional librarian to provide services to the public and EPA staff via phone, e-mail, or in person. The libraries will provide access for a minimum of 24 hours over four days per week on a walk-in basis or by appointment. All libraries will provide core information services of reference/research assistance and interlibrary loan/document delivery.

EPA's core library services and local collections are supported and supplemented by additional services and electronic resources. Public access to EPA's valuable document collections continues to be an essential function of the libraries. Thousands of EPA documents and reports can be accessed in full-text electronic format through the National Environmental Publications Internet Site (NEPIS) at http://www.epa.gov/nscep. Members of the public can also search for EPA documents in the libraries' online catalog at http://www.epa.gov/libraries/ols.htm. EPA libraries actively participate in interlibrary loan services to provide the public with access to EPA library materials upon request.

Additional information about library locations, hours of operations, and available services can be found at http://www.epa.gov/libraries. Comprehensive environmental information is available via the EPA Web site at http://www.epa.gov.

Dated: September 18, 2008.
Molly A. O'Neill,
Assistant Administrator and Chief Information Officer, Office of Environmental Information.

[FR Doc. E8-22468 Filed 9-23-08; 8:45 am]

BILLING CODE 6560-50-P